INTERNATIONAL TRADE COMMISSION

[Investigation Nos. 701-TA-701 and 731-TA-1659 (Final)]

Frozen Warmwater Shrimp From Indonesia and Ecuador; Termination of Investigations

AGENCY: United States International Trade Commission.

ACTION: Notice.

On October 28, 2024, the Department of Commerce published notices in the Federal Register of a negative final countervailing duty determination in connection with the subject investigation concerning Indonesia and of a negative final determination of sales at less than fair value in connection with the subject investigation concerning Ecuador (89 FR 85512 and 89 FR 85508). Accordingly, the U.S. International Trade Commission's countervailing duty investigation concerning frozen warmwater shrimp from Indonesia (Investigation No. 701-TA-701 (Final)) and its antidumping duty investigation concerning frozen warmwater shrimp from Ecuador (Investigation No. 731-TA-1659 (Final)) are terminated.

DATES: October 28, 2024.

FOR FURTHER INFORMATION CONTACT: Calvin Chang (202-205-3062), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

Authority: These investigations are being terminated under authority of title VII of the Tariff Act of 1930 and pursuant to section 207.40(a) of the Commission's Rules of Practice and Procedure (19 CFR 207.40(a)). This notice is published pursuant to section 201.10 of the Commission's rules (19 CFR 201.10).

By order of the Commission.
Issued: October 31, 2024.
Lisa Barton,
Secretary to the Commission.

[FR Doc. 2024-25739 Filed 11-5-24; 8:45 am]

BILLING CODE 7020-02-P